DEPARTMENT OF JUSTICE

Notice Pursuant to the National Cooperative Research and Production Act of 1993—Green Seal, Inc.

Notice is hereby given that, on June 28, 2011, pursuant to Section 6(a) of the National Cooperative Research and Production Act of 1993, 15 U.S.C. 4301 et seq. (“the Act”), Green Seal, Inc. (“Green Seal”) has filed written notifications simultaneously with the Attorney General and the Federal Trade Commission disclosing additions or changes to its standards development activities. The notifications were filed for the purpose of extending the Act's provisions limiting the recovery of antitrust plaintiffs to actual damages under specified circumstances. Specifically, Green Seal has issued a new standard for personal care and cosmetic products.

On January 26, 2011, Green Seal filed its original notification pursuant to Section 6(a) of the Act. The Department of Justice published a notice in the Federal Register pursuant to Section 6(b) of the Act on March 7, 2011 (76 FR 12370).

Patricia A. Brink,
Director of Civil Enforcement Antitrust Division.

[FR Doc. 2011-19443 Filed 8-2-11; 8:45 am]

BILLING CODE 4410-41-M